DEPARTMENT OF AGRICULTURE

Forest Service

Ketchikan Resource Advisory Committee; Meeting

AGENCY: Forest Service, USDA.

ACTION: Notice of meeting.

SUMMARY: The Ketchikan Resource Advisory Committee will meet in Ketchikan, Alaska, August 23, 2011 and September 20, 2011. The purpose of these meetings is to discuss potential projects under the Secure Rural Schools and Community Self-Determination Act of 2000.

DATES: The meetings will be held August 23, 2011 and September 20, 2011.

ADDRESSES: The meetings will be held at the Southeast Ketchikan Misty Fiords Ranger District, 3031 Tongass Avenue, Ketchikan, Alaska. Send written comments to Ketchikan Resource Advisory Committee, c/o District Ranger, USDA Forest Service, 3031 Tongass Ave., Ketchikan, AK 99901, or electronically to jdefreest@fs.fed.us.

FOR FURTHER INFORMATION CONTACT: Jeff DeFreest, District Ranger, Ketchikan-Misty Fiords Ranger District, Tongass National Forest, (907) 228-4100.

SUPPLEMENTARY INFORMATION: The meetings are open to the public. Committee discussion is limited to Forest Service staff and Committee members. However, public input opportunity will be provided and individuals will have the opportunity to address the Committee at that time.

Dated: July 7, 2011.
Jeff DeFreest,
District Ranger.

[FR Doc. 2011-17708 Filed 7-14-11; 8:45 am]

BILLING CODE 3410-11-M